DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than November 20, 2009.

Interested persons are invited to submit written comments regarding the subject matter of the investigations to the Director, Division of Trade Adjustment Assistance, at the address shown below, not later than November 20, 2009.

The petitions filed in this case are available for inspection at the Division of Trade Adjustment Assistance, Employment and Training Administration, U.S. Department of Labor, Room N-5428, 200 Constitution Avenue, NW., Washington, DC 20210.

Signed at Washington, DC, this 30th day of October 2009.
Richard Church,
Certifying Officer, Division of Trade Adjustment Assistance.

Appendix—TAA Petitions Instituted Between 10/12/09 and 10/16/09
TA-W | Subject firm (petitioners) | Location | Date of institution | Date of petition
72558 | Weyerhaeuser-iLevel Strand Technology, (Comp) | Elkin, NC | 10/13/09 | 10/08/09
72559 | Symmetricom, Inc., (Comp) | San Jose, CA | 10/13/09 | 10/09/09
72560 | Chrysler/Toledo Assembly, (UAW) | Toledo, OH | 10/13/09 | 10/09/09
72561 | United Tool & Plastics, Inc., (Comp) | Waynesboro, VA | 10/13/09 | 10/08/09
72562 | Fypon, Ltd., (Comp) | Archbold, OH | 10/13/09 | 10/09/09
72563 | Fypon, Ltd., (Comp) | Parkersburg, WV | 10/13/09 | 10/09/09
72564 | Termoseal, Inc., (Comp) | Sidney, OH | 10/13/09 | 10/09/09
72565 | Robert Bosch, LLC, (UAW) | St. Joseph, MI | 10/13/09 | 09/16/09
72566 | W.T. Sewing, Inc., (Wkrs) | San Francisco, CA | 10/13/09 | 10/12/09
72567 | Steve Williams Ford Lim, (Wkrs) | Lawrenceburg, TN | 10/13/09 | 10/05/09
72568 | Modine Manufacturing, (Wkrs) | Racine, WI | 10/13/09 | 10/08/09
72569 | Shiloh Industries Greenfield Die and Manufacturing, (Wkrs) | Canton, MI | 10/13/09 | 10/09/09
72570 | Michaels Processing Center, (Wkrs) | Grand Prairie, TX | 10/13/09 | 10/05/09
72571 | Freescale Semiconductor, (Wkrs) | Chandler, AZ | 10/13/09 | 10/07/09
72572 | AZ Automotive Corporation, (UAW) | Center Line, MI | 10/14/09 | 10/09/09
72573 | F.L. Smithe Division of Barry Wehmiller Corp, (IAMAW) | Duncansville, PA | 10/14/09 | 10/09/09
72574 | Ultra Clean Technology, (Wkrs) | Hayward, CA | 10/14/09 | 10/10/09
72575 | Dell Corporation, (Wkrs) | Winston-Salem, NC | 10/14/09 | 10/13/09
72576 | Alpha Polishing, Inc., (Comp) | Los Angeles, CA | 10/14/09 | 10/12/09
72577 | Spingfield Wire, Inc., (Comp) | Springfield, MA | 10/14/09 | 10/13/09
72578 | Agilent Technologies, (State) | Santa Rosa, CA | 10/14/09 | 10/06/09
72579 | Mead Link Products, Inc., (Comp) | Rochester, NY | 10/14/09 | 10/13/09
72580 | Criterion Catalysts & Technology, (USW) | Belmont, WV | 10/14/09 | 10/13/09
72581 | Freightcar America, (Wkrs) | Roanoke, VA | 10/14/09 | 10/13/09
72582 | GM Flint-Powertrain North, (Union) | Flint, MI | 10/14/09 | 10/02/09
72583 | Mansfield Brass and Aluminum, (Union) | New Washinton, OH | 10/14/09 | 10/13/09
72584 | IAC, (Union) | Dayton, TN | 10/14/09 | 10/13/09
72585 | Whirpool Corporation, Evansville Manufacturing Division, (IUECWA) | Evansville, IN | 10/14/09 | 10/13/09
72586 | Sapa Industrial Extrusions, (Wkrs) | Cressona, PA | 10/15/09 | 09/30/09
72587 | Raleigh Film and Television Studios, LLC, (Wkrs) | Los Angeles, CA | 10/15/09 | 10/01/09
72588 | Pavco Industries, Inc., (Comp) | Pascagoula, MS | 10/15/09 | 10/14/09
72589 | DOW Chemical—SKC Hass Display Films (USA), (Wkrs) | Rochester, NY | 10/15/09 | 10/14/09
72590 | Taminco Higher Amines, Inc., (Comp) | Riverview, MI | 10/15/09 | 10/13/09
72591 | Hutchinson Technology, Inc., (Wkrs) | Eau Claire, WI | 10/15/09 | 10/10/09
72592 | Sipco Molding Technologies, (Wkrs) | Meadville, PA | 10/15/09 | 10/14/09
72593 | Ciba Vision Corporation, (Wkrs) | Duluth, GA | 10/15/09 | 10/15/09
72594 | Heraeus Electro-Nite Company, LLC, (Comp) | Peru, IN | 10/15/09 | 10/14/09
72595 | Boyd Corporation, (State) | Portland, OR | 10/15/09 | 10/13/09
72596 | Metso Minerals, (Wkrs) | Portland, OR | 10/15/09 | 10/13/09
72597 | GE Healthcare Systems/Monitoring Solutions, (Wkrs) | Milwaukee, WI | 10/16/09 | 10/12/09
72598 | Nittsu Shoji U.S.A., Inc., (Comp) | Troy, OH | 10/16/09 | 10/14/09
72599 | Pradco, Inc., (State) | Ft. Smith, AR | 10/16/09 | 10/14/09
72600 | Unisys Corporation, (State) | Eagan, MN | 10/16/09 | 10/15/09
72601 | Crowe Manufacturing Services, Inc., (Comp) | Dayton, OH | 10/16/09 | 10/14/09
72602 | AT&T Operations, (State) | Greenroad Villiage, CO | 10/16/09 | 10/08/09
72603 | The Woodbridge Group, (Wkrs) | Auburn Hills, MI | 10/16/09 | 10/15/09
72604 | Career Horizons DBA Teleservices, Direct, (Comp) | Indianapolis, IN | 10/16/09 | 10/15/09
72605 | Coastal Diesel Service, (Wkrs) | New Bern, NC | 10/16/09 | 10/06/09
72606 | American Food and Vending, (Other) | Spring Hill, TN | 10/16/09 | 10/15/09
72607 | Bebe Store, Inc., (Wkrs) | Brisbane, CA | 10/16/09 | 09/25/09
72608 | Quark, Inc., (State) | Denver, CO | 10/16/09 | 10/13/09

[FR Doc. E9-27013 Filed 11-9-09; 8:45 am]

BILLING CODE 4510-FN-P